DEPARTMENT OF COMMERCE

International Trade Administration

(A-533-817, C-533-818, A-560-805, C-560-806, A-475-826, C-475-827, A-588-847, A-580-836, C-580-837)

Continuation of Antidumping and Countervailing Duty Orders: Certain Cut-to-Length Carbon-Quality Steel Plate from India, Indonesia, Italy, Japan, and Korea

AGENCY: Import Administration, International Trade Administration, Department of Commerce.

SUMMARY: As a result of the determinations by the Department of Commerce (“the Department”) and the International Trade Commission (“ITC”) that revocation of the antidumping (“AD”) orders on certain cut-to-length carbon-quality steel plate (“CTL Plate”) from India, Indonesia, Italy, Japan, and Korea would likely lead to continuation or recurrence of dumping; that revocation of the countervailing duty (“CVD”) orders on CTL Plate from India, Indonesia, Italy, and Korea would likely lead to continuation or recurrence of a countervailable subsidy; and that revocation of these AD and CVD orders would likely lead to a continuation or recurrence of material injury to an industry in the United States, the Department is publishing this notice of continuation of these AD and CVD orders.

EFFECTIVE DATE: December 6, 2005.

FOR FURTHER INFORMATION CONTACT: Roberto Facundus (AD orders), Darla Brown (CVD orders), or David Goldberger, AD/CVD Operations, Import Administration, International Trade Administration, U.S. Department of Commerce, 14th Street and Constitution Avenue, NW., Washington, DC 20230; telephone: (202) 482-3464, (202) 482-2849, or (202) 482-4136, respectively.

SUPPLEMENTARY INFORMATION:

Background

On January 3, 2005, the Department initiated and the ITC instituted sunset reviews of the AD orders on CTL Plate from India, Indonesia, Italy, Japan, and Korea and CVD orders on CTL Plate from India, Indonesia, Italy and Korea, pursuant to sections 751(c) and 752 of the Tariff Act of 1930, as amended (“the Act”), respectively. See Notice of Initiation of Five-year (“Sunset”) Reviews, 70 FR 75 (January 3, 2005). As a result of its reviews, the Department found that revocation of the AD orders would likely lead to continuation or recurrence of dumping and that revocation of the CVD orders would be likely to lead to continuation or recurrence of subsidization, and notified the ITC of the margins of dumping and the subsidy rates likely to prevail were the orders to be revoked. See Certain Cut-To-Length Carbon-Quality Steel Plate from France, India, Indonesia, Italy, Japan, and the Republic of Korea; Final Results of the Expedited Sunset Reviews of the Antidumping Duty Orders, 70 FR 45655 (August 8, 2005); Final Results of Expedited Sunset Review of Countervailing Duty Order: Certain Cut-To-Length Carbon-Quality Steel Plate From India, 70 FR 45691 (August 8, 2005); Final Results of Expedited Sunset Review of Countervailing Duty Order: Certain Cut-To-Length Carbon-Quality Steel Plate From Indonesia, 70 FR 45692 (August 8, 2005); Final Results of Expedited Sunset Review of Countervailing Duty Order: Certain Cut-To-Length Carbon-Quality Steel Plate From Italy, 70 FR 45694 (August 8, 2005), Final Results of Expedited Sunset Review of Countervailing Duty Order: Certain Cut-To-Length Carbon-Quality Steel Plate From Korea, 70 FR 45689 (August 8, 2005), (collectively, “Final Results”).

On November 28, 2005, the ITC determined that revocation of the AD orders on CTL Plate from India, Indonesia, Italy, Japan, and Korea and CVD orders on CTL Plate from India, Indonesia, Italy and Korea, would be likely to lead to continuation or recurrence of material injury within a reasonably foreseeable time. See Cut-to-Length Carbon-Quality Steel Plate From France, India, Indonesia, Italy, Japan, and Korea, 70 FR 71331 (November 28, 2005) (“ITC Determination”) and USITC Publication 3816 (October 2005), entitled Cut-To-Length Carbon Steel Plate from France, India, Indonesia, Italy, Japan, and Korea (Investigation Nos. 701-TA-388-391 and 731-TA-816-821 (Review)).

Scope of the Orders

The merchandise covered by the AD and CVD orders is certain hot-rolled carbon-quality steel: (1) Universal mill plates (i.e., flat- rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products included in the scope of these orders are of rectangular, square, circular or other shape and of rectangular or non-rectangular cross-section where such non-rectangular cross- section is achieved subsequent to the rolling process (i.e., products which have been “worked after rolling”) - for example, products which have been beveled or rounded at the edges. Steel products that meet the noted physical characteristics that are painted, varnished or coated with plastic or other non-metallic substances are included within the scope of these orders. Also, specifically included in the scope of these orders are high strength, low alloy (“HSLA”) steels. HSLA steels are recognized as steels with micro-alloying levels of elements such as chromium, copper, niobium, titanium, vanadium, and molybdenum. Steel products included in this scope, regardless of Harmonized Tariff Schedule of the United States (“HTSUS”) definitions, are products in which: (1) Iron predominates, by weight, over each of the other contained elements; (2) the carbon content is two percent or less, by weight; and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of these orders unless otherwise specifically excluded. The following products are specifically excluded from these orders: (1) Products clad, plated, or coated with metal, whether or not painted, varnished or coated with plastic or other non- metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel. The merchandise subject to these orders is currently classifiable in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000. Although the HTSUS subheadings are provided for convenience and customs purposes, the written description of the merchandise covered by these orders is dispositive.

Regarding the scope of the order for Japan, the following additional exclusions apply with respect to abrasion-resistant steels: NK-EH-360 (NK Everhard 360) and NK-EH-500 (NK Everhard 500). NK-EH-360 has the following specifications: (a) Physical Properties: Thickness ranging from 6-50 mm, Brinell Hardness: 361 min.; (b) Heat Treatment: controlled heat treatment; and (c) Chemical Composition (percent weight): C: 0.20 max., Si: 0.55 max., Mn: 1.60 max., P: 0.030 max., S: 0.030 max., Cr: 0.40 max., Ti: 0.005-0.020, B: 0.004 max. NK-EH-500 has the following specifications: (a) Physical Properties: Thickness ranging from 6-50 mm, Brinell Hardness: 477 min.; (b) Heat Treatment: Controlled heat treatment; and (c) Chemical Composition (percent weight): C: 0.35 max., Si: 0.55 max., Mn: 1.60 max., P: 0.030 max., S: 0.030 max., Cr: 0.80 max., Ti: 0.005-0.020, B: 0.004 max.

Determination

As a result of the determinations by the Department and the ITC that revocation of these AD and CVD orders would be likely to lead to continuation or recurrence of dumping or a countervailable subsidy, and of material injury to an industry in the United States, pursuant to section 751(d)(2) of the Act, the Department hereby orders the continuation of the AD orders on CTL Plate from India, Indonesia, Italy, Japan, and Korea and CVD orders on CTL Plate from India, Indonesia, Italy and Korea. U.S. Customs and Border Protection will continue to collect cash deposits at the rates in effect at the time of entry for all imports of subject merchandise. The effective date of continuation of these orders will be the date of publication in the Federal Register of this Notice of Continuation.

Pursuant to sections 751(c)(2) and 751(c)(6) of the Act, the Department intends to initiate the next five-year review of these orders not later than October 2010.

These five-year (sunset) reviews and notice are in accordance with section 751(c) of the Act and published pursuant to section 777(i)(1) of the Act.

Dated: November 30, 2005.
Stephen J. Claeys,
Acting Assistant Secretary for Import Administration.

[FR Doc. E5-6906 Filed 12-6-05; 8:45 am]

BILLING CODE 3510-DS-S